DEPARTMENT OF STATE

[Public Notice: 9422]

Sanctions Lifting Actions Taken Pursuant to the Joint Comprehensive Plan of Action

AGENCY: Department of State.

ACTION: Notice.

SUMMARY: To comply with the Presidential Memorandum entitled “Preparing for the Implementation of the Joint Comprehensive Plan of Action of July 14, 2015” issued on October 18, 2015 and to give effect to the United States commitment under Section 4.8.1 of Annex II and Section 17.3 of Annex V of the Joint Comprehensive Plan of Action (JCPOA), the Secretary of State has taken action pursuant to Section 9(b) of the Iran Sanctions Act of 1996 (Pub. L. 104-172) (50 U.S.C. 1701 note) (“ISA”), as amended, to discontinue the imposition of sanctions on the following individuals and entities sanctioned under section 5(a) of ISA: Dimitris Cambis, FAL Oil Company Limited, Ferland Company Limited, Impire Shipping, Kuo Oil Pte. Ltd, Naftiran Intertrade Company, Petrochemical Commercial Company International, Petróleos de Venezuela S.A., Royal Oyster Group, Speedy Ship, and Zhuhai Zhenrong Company and the following entities sanctioned under Section 212 of the Iran Threat Reduction and Syria Human Rights Act of 2012: Bimeh Markazi—Central Insurance of Iran and Kish Protection and Indemnity. The Secretary of State has also taken action to discontinue the imposition of sanctions under E. O. 13622 (July 30, 2012), as amended, on the following entities: Jam Petrochemical Company and Niksima Food and Beverage JLT. Finally, the Secretary of State has taken action pursuant to Section 1244(i)of the Iran Freedom and Counter-Proliferation Act of 2012 (subtitle D of title XII of Pub. L. 112-239, 22 U.S.C. 8801 et seq.) (“IFCA”) to waive the imposition of sanctions under Section 1244(c)(1) of IFCA with respect to the following entities: the National Iranian Oil Company, the National Iranian Tanker Company, the Islamic Republic of Iran Shipping Lines, and South Shipping Line Iran, and under Section 1244(d)(1) of IFCA with respect to Goldentex FZE. The Department of the Treasury's Office of Foreign Assets Control will take action to remove these entities from its list of Specially Designated Nationals and Blocked Persons (SDN List) and/or the Non-SDN ISA List, as appropriate, as of the effective date.

DATES: Effective: These actions were effective on January 16, 2016 (Implementation Day), when the Secretary of State confirmed that Iran had implemented the nuclear-related measures specified in Sections 15.1-15.11 of Annex V of the JCPOA, as verified by the International Atomic Energy Agency.

FOR FURTHER INFORMATION CONTACT: On general issues: Office of Sanctions Policy and Implementation, Department of State, Telephone: (202) 647-7489.

SUPPLEMENTARY INFORMATION: Relevant agencies and instrumentalities of the United States Government shall take all appropriate measures within their authority to carry out the provisions of this notice.

The following constitutes a list, as of the effective date of these actions, of persons on whom sanctions are imposed under ISA. The particular sanctions imposed on an individual person are identified in the relevant Federal Register Notice.

—Sytrol (see Public Notice 8040, 77 FR 59034, September 25, 2012)

Dated: January 19, 2016.
Kurt Tong,
Acting Assistant Secretary for Economic and Business Affairs.

[FR Doc. 2016-01404 Filed 1-22-16; 8:45 am]

BILLING CODE 4710-AE-P